DEPARTMENT OF HOMELAND SECURITY

8 CFR Parts 215, 235, and 252

[DHS 2007-0002]

RIN 1650-AA00

Notice to Nonimmigrant Aliens Subject To Be Enrolled in the United States Visitor and Immigrant Status Indicator Technology System (US-VISIT); Extension of Comment Period

AGENCY: Border and Transportation Security Directorate, DHS.

ACTION: Interim rule; extension of comment period.

SUMMARY: On August 31, 2004, the Department of Homeland Security (DHS) published in the Federal Register at 69 FR 53318, an interim rule which extended the US-VISIT program to include persons traveling without visas under the Visa Waiver Program, expanded US-VISIT to the 50 most highly trafficked land border ports of entry, and made several other minor changes to the US-VISIT program. The comment period for this regulation was set to expire on November 1, 2004. However, DHS has extended the comment period for this interim rule for an additional 30 days. This document informs the public that the comment period has been extended until December 1, 2004.

DATES: Written comments must be submitted on or before December 1, 2004.

ADDRESSES: You may submit comments identified by RIN 1615-AA00 to the Docket Management Facility at the EPA. To avoid duplication, please use only one of the following methods:

(1) Web Site: http://www.epa.gov/edocket. Follow the instructions for submitting comments at that Web site.

(2) Mail: Written comments may be submitted to Michael Hardin, Senior Policy Advisor, US-VISIT, Border and Transportation Security; Department of Homeland Security; 1616 North Fort Myer Drive, 18th Floor, Arlington, VA 22209.

(3) Federal eRulemaking Portal: http://www.regulations.gov. Follow the instructions for submitting comments.

(4) E-mail: Send comments to USVISITREGS@DHS.GOV.

Submitted comments may be inspected at 1616 North Ft. Myer Drive, Arlington, VA 22209, between 9 a.m. and 5 p.m., Monday through Friday except Federal holidays. Arrangements to inspect submitted comments should be made in advance by calling (202) 298-5200. You may also find this docket on the Internet at http://www.epa.gov/edocket. You may also access the Federal eRulemaking Portal at http://www.regulations.gov.

FOR FURTHER INFORMATION CONTACT: Michael Hardin, US-VISIT, Border and Transportation Security, Department of Homeland Security, 1616 North Fort Myer Drive, 18th Floor, Arlington, VA 22209, telephone (202) 298-5200.

Elizabeth L. Branch,
Associate General Counsel for Rules and Legislation, Office of the General Counsel, Department of Homeland Security.

[FR Doc. 04-24811 Filed 11-4-04; 8:45 am]

BILLING CODE 4410-10-P